NATIONAL SCIENCE FOUNDATION

Notice of Intent To Prepare an Environmental Impact Statement and Initiate Consultation for Proposed Changes to Sacramento Peak Observatory Operations, Sunspot, New Mexico; Notice of Public Scoping Meetings and Comment Period

AGENCY: National Science Foundation.

ACTION: Notice of intent to prepare an environmental impact statement and public scoping meetings and comment period.

SUMMARY: In compliance with the National Environmental Policy Act of 1969, as amended, the National Science Foundation (NSF) intends to prepare an environmental impact statement (EIS) to evaluate potential environmental effects of proposed changes to operations at Sacramento Peak Observatory, in Sunspot, New Mexico. (See SUPPLEMENTARY INFORMATION below for more detail.) By this notice, NSF is announcing the beginning of the scoping process to solicit public comments and identify issues to be analyzed in the EIS. At this juncture, NSF would welcome public comments on the preliminary proposed alternatives and resource areas identified for analysis. NSF also intends to initiate consultation under section 106 of the National Historic Preservation Act to evaluate potential effects to the Sacramento Peak Observatory.

DATES: This notice initiates the public scoping process for the EIS and the initiation of public involvement under section 106 per 36 CFR 800.2(d). Comments on issues may be submitted verbally during the scoping meeting scheduled for July 21, 2016 (see details in SUPPLEMENTARY INFORMATION), or in writing until August 5, 2016. To be eligible for inclusion in the Draft EIS, all comments must be received prior to the close of the scoping period. NSF will provide additional opportunities for public participation upon publication of the Draft EIS.

ADDRESSES: You may submit comments related to this proposal by either of the following methods:

• Email to: envcomp-AST-sacpeak@nsf.gov, with subject line “Sacramento Peak Observatory”.

• Mail to: Ms. Elizabeth Pentecost, RE: Sacramento Peak Observatory, National Science Foundation, Suite 1045, 4201 Wilson Blvd., Arlington, VA 22230.

FOR FURTHER INFORMATION CONTACT: For further information regarding the EIS process or Section 106 consultation, please contact: Ms. Elizabeth Pentecost, National Science Foundation, Division of Astronomical Sciences, Suite 1045, 4201 Wilson Blvd., Arlington, VA 22230; telephone: (703) 292-4907; email: epenteco@nsf.gov.

SUPPLEMENTARY INFORMATION: Sacramento Peak Observatory is located in Sunspot, New Mexico, within the Lincoln National Forest in the Sacramento Mountains. Established by the U.S. Air Force via a memorandum of agreement with the U.S. Forest Service in 1950, the facility was transferred to the National Science Foundation (NSF) in 1976. NSF and the U.S. Forest Service executed a land use agreement (signed in 1980) to formalize this transition and the continued use of the land for the observatory. The primary research facility still in operation at the Sacramento Peak site is the Richard B. Dunn Solar Telescope (DST), currently managed by the National Solar Observatory (NSO). The DST is a high-spatial resolution optical/infrared solar telescope. In addition to its own operations, the Sacramento Peak Observatory supplies water for the nearby Apache Point Observatory (APO).

The NSF Directorate for Mathematical and Physical Sciences, Division of Astronomical Sciences, through a series of academic community-based reviews, has identified the need to divest several facilities from its portfolio in order to deliver the best performance on the emerging and key science technology of the present decade and beyond. In 2012, NSF's Division of Astronomical Sciences (AST's) portfolio review committee, under the category of solar facilities stated that, “AST and NSO should plan for the continued use of the Dunn Solar Telescope (DST) as a world-class scientific observatory, supporting the solar physics community, to within two years of the Advanced Technology Solar Telescope (ATST) [now the Daniel K. Inouye Solar Telescope, DKIST] first light.” In 2016, in response to this recommendation, NSF completed a feasibility study to inform and define options for the site's future disposition that would involve significantly decreasing or eliminating NSF funding of the Sacramento Peak Observatory. Alternatives to be evaluated in the EIS will be refined through public input, with preliminary proposed alternatives that include the following:

• Continued NSF investment for science-focused operations (No-Action Alternative)

• Transition to full operations with interested parties for solar astronomy research

• Transition to partial operations with interested parties, and decommissioning or mothballing of facilities not proposed to be used

• Mothballing of facilities limited to basic maintenance

• Deconstruction and site restoration

The purpose of the public scoping process is to determine relevant issues that will influence the scope of the environmental analysis, including identification of viable alternatives, and guide the process for developing the EIS. At present, NSF has identified the following preliminary resource areas for analysis of potential impacts: Air quality, biological resources, cultural resources, geological resources, solid waste generation, health and safety, socioeconomics, traffic, and groundwater resources. NSF will consult under section 106 of the National Historic Preservation Act and section 7 of the Endangered Species Act in coordination with this EIS process, as appropriate. Federal, state, and local agencies, along with other stakeholders that may be interested or affected by NSF's decision on this proposal are invited to participate in the scoping process and, if eligible, may request to participate as a cooperating agency.

Proposal Information: Information will be posted, throughout the EIS process, at www.nsf.gov/ast.

Scoping Meeting: NSF will host one public scoping meeting.

Meeting Date and Location: July 21, 2016, from 6 p.m. to 8 p.m., New Mexico Museum of Space History, 3198 State Route 2001, Alamogordo, NM 88310. Tel: (575) 437-2840.

Comments will be transcribed by a court reporter. Please contact NSF at least one week in advance of the meeting if you would like to request special accommodations (i.e., sign language interpretation, etc.).

Dated: June 24, 2016.
Suzanne H. Plimpton,
Reports Clearance Officer, National Science Foundation.

[FR Doc. 2016-15783 Filed 7-1-16; 8:45 am]

BILLING CODE 7555-01-P